DEPARTMENT OF JUSTICE

Justice Management Division; Agency Information Collection Activities: Proposed Collection; Comments Requested

ACTION: 30-day notice of information collection under review: new collection; applicant qualification form.

The Department of Justice (DOJ), Justice Management Division (JMD) has submitted the following information collection request to the Office of Management and Budget (OMB) for review and approval in accordance with the Paperwork Reduction Act of 1995. The proposed information collection is published to obtain comments from the public and affected agencies. This proposed information collection was previously published in the Federal Register on September 6, 2001, Volume 66, Number 173, pages 46652-46653 allowing for a 60 day comment period.

The purpose of this notice is to allow for an additional 30 days for public comment until December 13, 2001. This process is conducted in accordance with 5 CFR 1320.10. Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-7285.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New collection.

(2) Title of the Form/Collection: Applicant qualification form.

(3) Agency form number, if any, and the applicable component of the Department of Justice sponsoring the collection: Form Number: None. Personnel Staff, Justice Management Division, U.S. Department of Justice.

(4) Affected public who will be asked or required to respond, as well as a brief abstract: Primary: Applicants for employment with certain DOJ components who do not have access to the Internet. Other: None Abstract: This form would allow applicants for employment with the Department of Justice who do not have access to the Internet to provide the required personal and experience information and job specific criteria in a format that can be scanned into the electronic recruitment module that automatically rates and ranks applicants.

(5) An estimate of the total number of respondents and the amount of time estimated for an average respondent to respond: 1,000 responses are estimated annually with an average of thirty minutes per response.

(6) An estimate of the total public burden (in hours) associated with the collection: 500 hours annually.

If additionally information is required contact: Robert B. Briggs, Department Clearance Officer, Information Management and Security Staff, Justice Management Division, United States Department of Justice, 1331 Pennsylvania Avenue, NW., Washington, DC 20530.

Dated: November 7, 2001.
Robert B. Briggs,
Department Clearance Officer, United States Department of Justice.

[FR Doc. 01-28403 Filed 11-9-01; 8:45 am]

BILLING CODE 4410-AR-M